FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Ocean Blue Express, Inc., 1320 E. Olympic Blvd., Suite 214, Los Angeles, CA 90021. Officers: Terry E. Yi, Vice President, (Qualifying Individual), Sung Ho Sun, President.

Powin Express, Inc., 250 Clary Avenue, San Gabriel, CA 91776. Officers: Alvan Kee-Chin, Chow, Secretary, (Qualifying Individual), Jing C. BuckHalter, CEO.

Caribbean Shipping Solutions, Inc., 1920 NW 187 Street, Opa-Locka, FL 33056. Officer: Marian Velazquez, Director, (Qualifying Individual).

S&R Shipping Services, LLP, 10043 Worrell Avenue, Glenn Dale, MD 20769. Officers: George O. Simon, Co-Owner, (Qualifying Individual), Claude E. Robertson, Co-Owner.

Safe Movers, Inc. dba Isaac's Relocation Service, 155 North Beacon Street, Brighton, MA 02135. Officers: Yizhaq Edry, Treasurer, (Qualifying Individual), Ami Joseph, President.

Estes Express Lines, 3901 West Broad Street, Richmond, VA 23230. Officer: Paul J. Dugent, Vice President, (Qualifying Individual).

US Auto Connect dba USAC International, 327 Chestnut Ave., #247, Long Beach, CA 90802. Officer: Andriy Yarotsky, President, (Qualifying Individual).

Pacific Zipping, LLC, 1886 Copa Way, Monterey Park, CA 91754. Officers: Mei Sheung Lee, Manager, (Qualifying Individual), Hok Kwan NG, Member.

Non-Vessel-Operating Common Carrier and Ocean Freight Forwarder Transportation Intermediary Applicants

Elite International Shipping Company LLC, 41 Victoria Street, Newark, NJ 07114. Officers: Daniel D. Agboh, Vice President, (Qualifying Individual), Emmanuel L. Agboh, President.

OCS Logistics Inc., 923 E. Valley Bl. #106, San Gabriel, CA 91776. Officers: Michael N. Wong, President, (Qualifying Individual), Lynnwood Jen, Secretary.

American Furniture Company dba AH Logistics, 801 Comanche NE, Albuquerque, NM 87190. Officers: Carlos Martinez-Tomatis, Vice President, (Qualifying Individual), Lee S. Blaugrund, President.

Logimex Solutions International, LLC, dba Ameritrans Express International, 7985 NW 198th Terrace, Miami, FL 33015. Officers: Javier R. Munoz, President, (Qualifying Individual), Ana R. Munoz, Vice President.

Taurus Line, Inc. dba Taurus Marine Line, dba Taurus Logistics (USA), 1560 Sawgrass Corporate Parkway, 4th FL, Sunrise, FL 33323. Officers: Hector Buitano, Jr., President, (Qualifying Individual), Hector H. Buitano, Sr.

Ocean Freight Forwarder-Ocean Transportation Intermediary Applicants:

Pointer Int'l Forwarders, Inc., 4851 NW 79th Avenue, Suite 7, Doral, FL 33166. Officers: Maria A. Ramos, President, (Qualifying Individual), Eduardo C. Ramos, Vice President.

FRX, Inc. dba LifeLink Logistics, Inc., 6920 Engle Road, Suite 11, Middleburg Heights, OH 44130. Officers: Robert A. Young, President, (Qualifying Individual), Thomas A. Ford, Vice President.

All Services and Merchandise Corp. dba A.S.A.M., 2840 NW 108 Ave., Miami, FL 33172. Officers: Henry Antonio Herrera, President, (Qualifying Individual), Wilman Villegas, Vice President.

Liberty Shipping Corporation, 98-12 211 Street, Queens Village, NY 11428. Officers: Rajendra Persaud, Secretary, (Qualifying Individual), Cheddi Juma, President.

Dated: July 15, 2005.
Bryant L. VanBrakle,
Secretary.

[FR Doc. 05-14292 Filed 7-19-05; 8:45 am]

BILLING CODE 6730-01-P